DEPARTMENT OF AGRICULTURE

Resource Advisory Committee Meeting

AGENCY: Forest Service, USDA.

ACTION: Notice of Public Meeting, Sabine National Forest Resource Advisory Committee.

SUMMARY: In accordance with the Secure Rural Schools and Community Self Determination Act of 2000 (Pub. L. 106-393), [as reauthorized as part of Pub. L. 110-343] and the Federal Advisory Committee Act of 1972 (FACA), the U.S. Department of Agriculture, Forest Service, Sabine National Forest Resource Advisory Committee (RAC) meeting will meet as indicated below.

DATES: The Sabine National Forest RAC meeting will be held on Thursday, May 5, 2011.

ADDRESSES: The Sabine National Forest RAC meeting will be held at the Sabine Ranger Station located on State Highway 21 East, approximately 5 miles East of Milam in Sabine County, Texas. The meeting will begin at 3:30 p.m. and adjourn at approximately 5:30 p.m. A public comment period will begin at 5:15 p.m.

FOR FURTHER INFORMATION CONTACT: William E. Taylor, Jr., Designated Federal Officer, Sabine National Forest, 5050 State Hwy. 21 E., Hemphill, TX 75948: Telephone: 409-625-1940 or e-mail at: etaylor@fs.fed.us.

SUPPLEMENTARY INFORMATION: The Sabine National Forest RAC proposes projects and funding to the Secretary of Agriculture under Section 203 of the Secure Rural Schools and Community Self Determination Act of 2000, (as reauthorized as part of Pub. L. 110-343). The purpose of the May 5, 2011 meeting is to discuss new Title II projects. These meetings are open to the public. The public may present written comments to the RAC. Each formal RAC meeting will also have time, as identified above, for persons wishing to comment. The time for individual oral comments may be limited.

William E. Taylor, Jr.,
Designated Federal Officer, Sabine National Forest RAC.

[FR Doc. 2011-9962 Filed 4-26-11; 8:45 am]

BILLING CODE 3410-11-P